DEPARTMENT OF LABOR

Office of the Secretary

Submission for OMB Review: Comment Request

January 27, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Occupational Safety and Health Administration (OSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

Title: Fire Brigades (29 CFR 1910.156).

OMB Number: 1218-0075.

Frequency: On occasion.

Type of Response: Recordkeeping and Third party disclosure.

Affected Public: Business or other for-profit; Not-for-profit institutions; Federal Government; and State, local, or tribal government.

Number of Respondents: 8,391.

Number of Annual Responses: 8,391.

Estimated Time Per Response: 5 minutes to obtain a physician's certificate and 2 hours to develop or revise organizational statements for fire brigades.

Total Burden Hours: 6,042.

Total Annualized Capital/Startup Costs: $0.

Total Annual Costs (Operating/Maintaining Systems or Purchasing Services): $0.

Description: Although OSHA does not mandate that employers establish fire brigades, 29 CFR 1910.156 (the Standard) requires an employer who does establish a fire brigade to write an organizational statement; obtain a physician's certificate of fitness for employees with specific physical conditions to participate in fire-related operations; and provide appropriate training and information to fire brigade members. The provisions of the Standard apply to fire brigades, industrial fire departments, and private or contract fire departments, but not to airport crash-rescue units or forest fire-fighting operations. The Standard serves to protect the occupational health and safety of employees who participate in fire brigades.

Agency: Occupational Safety and Health Administration.

Type of Review: Extension of currently approved collection.

Title: Voluntary Protection Program Information.

OMB Number: 1218-0239.

Frequency: On occasion; Annually; Quarterly; and Every three years.

Type of Response: Reporting.

Affected Public: Business or other for-profit; Not-for-profit institutions; Federal Government; State, local, or tribal government; and Individuals or households.

Number of Respondents: 1,566.

Number of Annual Responses: 1,874.

Estimated Time Per Response: Varies from 200 hours to prepare an application to 8 minutes to complete a general eligibility information sheet.

Total Burden Hours: 86,900.

Total Annualized Capital/Startup Costs: $0.

Total Annual Costs (Operating/Maintaining Systems or Purchasing Services): $0.

Description: The Voluntary Protection Programs (VPP) established the efficacy of cooperative action among government, industry, and labor to address worker safety and health issues and to expand worker protection. To qualify, employers must meet OSHA's rigorous safety and health management criteria which focus on comprehensive management systems and active employee involvement to prevent or control worksite safety and health hazards.

The information collection requirements associated with the VPP include various application requirements, quarterly and annual reports as well as annual evaluations. The information collected on applications helps applicants and OSHA ensure that potential participants qualify for the program. The information collected by quarterly and annual reports and annual evaluations help participants and OSHA determine the effectiveness of the program.

Ira L. Mills,
Departmental Clearance Officer.

[FR Doc. 05-2191 Filed 2-3-05; 8:45 am]

BILLING CODE 4510-26-P